DEPARTMENT OF TRANSPORTATION

Federal Aviation Administration

14 CFR Part 39

[Docket No. FAA-2009-0745; Directorate Identifier 2009-CE-036-AD; Amendment 39-16053; AD 2009-22-02]

RIN 2120-AA64

Airworthiness Directives; American Champion Aircraft Corp. Models 7ECA, 7GCAA, 7GCBC, 7KCAB, 8KCAB, and 8GCBC Airplanes

AGENCY: Federal Aviation Administration (FAA), Department of Transportation (DOT).

ACTION: Final rule.

SUMMARY: We are adopting a new airworthiness directive (AD) for all American Champion Aircraft Corp. Models 7ECA, 7GCAA, 7GCBC, 7KCAB, 8KCAB, and 8GCBC airplanes, manufactured prior to 1989 and equipped with folding rear seat backs. This AD requires inspection of the rear seat back hinge areas for cracking and excessive elongation of the rear seat hinge bolt hole and, if cracking or excessive elongation is found, replacement of the rear seat frame. We are issuing this AD to detect and correct cracking of the rear seat back hinge area and excessive elongation of the rear seat hinge bolt hole, either of which could result in failure of the seat back. This failure could lead to a rear-seated pilot or passenger inadvertently interfering with the control stick while attempting to not roll to the rear of the airplane upon seat back failure. Consequently, this failure could result in loss of control.

DATES: This AD becomes effective on December 3, 2009.

On December 3, 2009, the Director of the Federal Register approved the incorporation by reference of certain publications listed in this AD.

ADDRESSES: For service information identified in this AD, contact American Champion Aircraft Corporation, P.O. Box 37, 32032 Washington Ave., Rochester, Wisconsin 53167; telephone: (262) 534-6315; fax: (262) 534-2395; Internet: http://www.amerchampionaircraft.com/Technical/Technical.html.

To view the AD docket, go to U.S. Department of Transportation, Docket Operations, M-30, West Building Ground Floor, Room W12-140, 1200 New Jersey Avenue, SE., Washington, DC 20590, or on the Internet at http://www.regulations.gov. The docket number is FAA-2009-0745; Directorate Identifier 2009-CE-036-AD.

FOR FURTHER INFORMATION CONTACT: Wess Rouse, Aerospace Engineer, 2300 East Devon Avenue, Room 107, Des Plaines, Illinois 60018; telephone: (847) 294-8113; fax: (847) 294-7834.

SUPPLEMENTARY INFORMATION:

Discussion

On August 7, 2009, we issued a proposal to amend part 39 of the Federal Aviation Regulations (14 CFR part 39) to include an AD that would apply to all American Champion Aircraft Corp. Models 7ECA, 7GCAA, 7GCBC, 7KCAB, 8KCAB, and 8GCBC airplanes, manufactured prior to 1989 and equipped with folding rear seat backs. This proposal was published in the Federal Register as a notice of proposed rulemaking (NPRM) on August 13, 2009 (74 FR 40781). The NPRM proposed to require inspection of the rear seat back hinge areas for cracking and excessive elongation of the rear seat hinge bolt hole and, if cracking or excessive elongation is found, replacement of the rear seat frame.

Comments

We provided the public the opportunity to participate in developing this AD. We received no comments on the proposal or on the determination of the cost to the public.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 2,000 airplanes in the U.S. registry.

We estimate the following costs to do the inspection:

Labor cost | Parts cost | Total cost per airplane | Total cost on U.S. operators
.5 work-hour × $80 per hour = $40 | Not applicable | $40 | $80,000

We estimate the following costs to do any necessary replacements that would be required based on the results of the proposed inspection. We have no way of determining the number of airplanes that may need this replacement:

Labor cost | Parts cost | Total cost per airplane
1.5 work-hours × $80 per hour = $120 | Remanufactured seat $200 New standard seat $645 New wide seat $765 | Remanufactured seat $320. New standard seat $765. New wide seat $885.

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2009-0745; Directorate Identifier 2009-CE-036-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding the following new AD:

2009-22-02 American Champion Aircraft Corp.: Amendment 39-16053; Docket No. FAA-2009-0745; Directorate Identifier 2009-CE-036-AD.

Effective Date

(a) This AD becomes effective on December 3, 2009.

Affected ADs

(b) None.

Applicability

(c) This AD applies to Models 7ECA, 7GCAA, 7GCBC, 7KCAB, 8KCAB, and 8GCBC airplanes, all serial numbers, that are:

(1) Manufactured prior to 1989;

(2) Equipped with folding rear seat backs; and

(3) Certificated in any category.

Unsafe Condition

(d) This AD results from an occurrence of the rear seat frame failing in flight. We are issuing this AD to detect and correct cracking of the rear seat back hinge area and excessive elongation of the rear seat hinge bolt hole, which could result in failure of the rear seat back. This failure could lead to a rear-seated pilot or passenger inadvertently interfering with the control stick while attempting to not roll to the rear of the airplane upon seat back failure. Consequently, this failure could result in loss of control.

Compliance

(e) To address this problem, you must do the following, unless already done:

Actions | Compliance | Procedures
(1) Inspect the rear seat back hinge area for cracking and elongation of the rear seat hinge bolt hole | Within the next 25 hours time-in-service (TIS) after December 3, 2009 (the effective date of this AD) and repetitively thereafter at intervals not to exceed every 100 hours TIS or every 12 months, whichever occurs first | Follow American Champion Aircraft Corp. Service Letter No. 431, dated July 20, 2009.
(2) If cracking or excessive elongation of the rear seat bolt hole is found during any inspection required in paragraph (e)(1) of this AD, replace the seat frame with a factory remanufactured seat frame, a new part number (P/N) 7-1500 (standard) seat frame, or a new P/N 7-1501 (wide) seat frame. Replacement of the seat frame terminates the repetitive inspection requirements of this AD | Before further flight after the inspection where cracking or excessive elongation of the rear seat bolt hole is found | Follow American Champion Aircraft Corp. Service Letter No. 431, dated July 20, 2009.
(3) You may at any time replace the rear seat frame with a factory remanufactured seat frame, a new part number (P/N) 7-1500 (standard) seat frame, or a new P/N 7-1501 (wide) seat frame to terminate the repetitive inspection requirements of this AD | Not applicable | Follow American Champion Aircraft Corp. Service Letter No. 431, dated July 20, 2009.

Alternative Methods of Compliance (AMOCs)

(f) The Manager, Chicago Aircraft Certification Office, FAA, has the authority to approve AMOCs for this AD, if requested using the procedures found in 14 CFR 39.19. Send information to ATTN: Wess Rouse, Aerospace Engineer, 2300 East Devon Avenue, Room 107, Des Plaines, Illinois 60018; telephone: (847) 294-8113; fax: (847) 294-7834. Before using any approved AMOC on any airplane to which the AMOC applies, notify your appropriate principal inspector (PI) in the FAA Flight Standards District Office (FSDO), or lacking a PI, your local FSDO.

Material Incorporated by Reference

(g) You must use American Champion Aircraft Corp. Service Letter No. 431, dated July 20, 2009, to do the actions required by this AD, unless the AD specifies otherwise.

(1) The Director of the Federal Register approved the incorporation by reference of this service information under 5 U.S.C. 552(a) and 1 CFR part 51.

(2) For service information identified in this AD, contact American Champion Aircraft Corporation, P.O Box 37, 32032 Washington Ave., Rochester, Wisconsin 53167; telephone: (262) 534-6315; fax: (262) 534-2395; Internet: http://www.amerchampionaircraft.com/Technical/Technical.html.

(3) You may review copies of the service information incorporated by reference for this AD at the FAA, Central Region, Office of the Regional Counsel, 901 Locust, Kansas City, Missouri 64106. For information on the availability of this material at the Central Region, call (816) 329-3768.

(4) You may also review copies of the service information incorporated by reference for this AD at the National Archives and Records Administration (NARA). For information on the availability of this material at NARA, call (202) 741-6030, or go to: http://www.archives.gov/federal_register/code_of_federal_regulations/ibr_locations.html.

Issued in Kansas City, Missouri, on October 13, 2009.
Kim Smith,
Manager, Small Airplane Directorate, Aircraft Certification Service.

[FR Doc. E9-25258 Filed 10-28-09; 8:45 am]

BILLING CODE 4910-13-P